DEPARTMENT OF TRANSPORTATION

Office of the Secretary

[Docket OST-00-7920.

Application of Paradise Island Airlines, Inc. and Potomac Air, Inc. for Transfer of Commuter Authority

AGENCY: Department of Transportation.

ACTION: Notice of Order to Show Cause (Order 2000-11-22).

SUMMARY: The Department of Transportation is directing all interested persons to show cause why it should not issue an order finding Potomac Air, Inc., fit, willing, and able to conduct scheduled passenger operations as a commuter air carrier, and transferring to it the commuter authority currently issued to Paradise Island Airlines, Inc.

DATES: Persons wishing to file objections should do so no later than December 4, 2000.

ADDRESSES: Objections and answers to objections should be filed in Docket OST-00-7920 and addressed to the Department of Transportation Dockets (SVC-124.1, Room PL-401), U.S. Department of Transportation, 400 Seventh Street, SW., Washington, DC 20590, and should be served upon the parties listed in Attachment A to the order.

FOR FURTHER INFORMATION CONTACT: Ms. Janet Davis, Air Carrier Fitness Division (X-56, Room 6401), U.S. Department of Transportation, 400 Seventh Street, SW, Washington, DC 20590, (202) 366-9721.

Dated: November 20, 2000.
Susan McDermott,
Deputy Assistant Secretary for Aviation and International Affairs.

[FR Doc. 00-30033 Filed 11-22-00; 8:45 am]

BILLING CODE 4910-62-P